DEPARTMENT OF THE INTERIOR

Bureau of Land Management

[L63330000-PH0000-LLWO270000; OMB Control Number 1004-0102]

Notice of Proposed Information Collection for 1004-0102

AGENCY: Bureau of Land Management, Interior.

ACTION: 60-Day Notice and Request for Comments.

SUMMARY: In compliance with the Paperwork Reduction Act of 1995, the Bureau of Land Management (BLM) is announcing its intention to request reinstatement of an approval to collect information that documents the payment of road use fees for the use of privately owned roads to haul timber sold in accordance with BLM sale contracts. This information collection activity was previously approved by the Office of Management and Budget (OMB), and assigned the control number 1004-0102.

DATES: Comments on the proposed information collection must be received by March 15, 2010, to be assured of consideration.

ADDRESSES: Comments may be mailed to U.S. Department of the Interior, Bureau of Land Management, Mail Stop 401-LS, 1849 C St., NW., Washington, DC 20240. Comments may also be submitted electronically to Jean_Sonneman@blm.gov. Please attach “Attn: 1004-0102” to either form of comment.

FOR FURTHER INFORMATION CONTACT: To receive a copy of the information collection request, contact Richard Watson, 303-236-0158. Persons who use a telecommunication device for the deaf (TDD) may call the Federal Information Relay Service (FIRS) on 1-800-877-8339, 24 hours a day, seven days a week, to contact Mr. Watson.

SUPPLEMENTARY INFORMATION: OMB regulations at 5 CFR 1320 (which implement provisions of the Paperwork Reduction Act, 44 U.S.C. 3501-352) require that interested members of the public and affected agencies be given an opportunity to comment on information collection and recordkeeping activities (see 5 CFR 1320.8 (d) and 1320.12(a)). This notice identifies a collection of information that the BLM will be submitting to OMB for approval.

Comments are invited on: (1) The need for the collection of information for the performance of the functions of the agency; (2) the accuracy of the agency's burden estimates; (3) ways to enhance the quality, utility and clarity of the information collection; and (4) ways to minimize the information collection burden on respondents, such as use of automated means of collection of the information. A summary of the public comments will accompany the BLM's submission of the information collection requests to OMB.

Before including your address, phone number, e-mail address, or other personal identifying information in your comment, you should be aware that your entire comment-including your personal identifying information-may be made publicly available at any time. While you can ask us in your comment to withhold your personal identifying information from public review, we cannot guarantee that we will be able to do so.

The following information is provided for the information collection:

Title: Road Use Fees Paid Report.

OMB Control Number: 1004-0102.

Summary: Most purchasers of timber from BLM-managed lands use both federal and private roads to haul the timber. In such instances, the timber sale contract with the BLM requires the purchaser to pay private landowners for the use and/or maintenance of their roads. These fees represent the BLM's share of road construction and maintenance costs under reciprocal right-of-way agreements between the BLM and private landowners. See 43 U.S.C. 1762; 43 CFR subpart 2812. This information collection is a report that timber sale purchasers submit to the BLM to show that they have paid the fees required by their timber sale contracts. The BLM uses the report to ensure compliance with the timber sale contract, and to amortize road construction and maintenance costs among several road users.

Frequency of Collection: On occasion.

Description of Respondents: Timber sale purchasers that haul timber purchased from the BLM over privately owned roads that are included in reciprocal right-of-way agreements.

Total Annual Responses: 40.

Response Time: 20 minutes.

Total Annual Burden Hours for Respondents: 13 hours.

Jean Sonneman,
Acting Information Collection Clearance Officer, Bureau of Land Management.

[FR Doc. 2010-502 Filed 1-12-10; 8:45 am]

BILLING CODE 4310-84-P